DEPARTMENT OF JUSTICE

Notice of Lodging of Proposed Consent Decree Under the Comprehensive Environmental Response, Compensation and Liability Act

On June 3, 2022, the Department of Justice lodged a proposed consent decree with the United States District Court for the District of Delaware in the lawsuit entitled United States and the State of Delaware v. Hercules LLC, et al., Civil Action No. 1:22-cv-00731-UNA.

The United States and the State of Delaware filed this lawsuit under the Comprehensive Environmental Response, Compensation and Liability Act (CERCLA). The complaint names 22 companies as defendants in connection with the alleged releases of hazardous substances at the Delaware Sand and Gravel Superfund Site (the “Site) in New Castle, Delaware. Under the consent decree, a group of defendants will perform the remedial action that EPA selected for the Site at an estimated cost of $46.1 million. The defendants will also pay all EPA future response costs after the first $800,000, which is the amount of a credit allowed defendants consistent with EPA's Orphan Share Policy, which reflects the fact that some otherwise liable parties at the Site are now defunct. In return, the United States and Delaware agree not to sue the defendants under sections 106 and 107 of CERCLA or under section 7003 of the Resource Conservation and Recovery Act.

The publication of this notice opens a period for public comment on the consent decree. Comments should be addressed to the Assistant Attorney General, Environment and Natural Resources Division, and should refer to United States and the State of Delaware v. Hercules LLC, et al., D.J. Ref. No. 90-11-2-298/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the consent decree may be examined and downloaded at this Justice Department website: https://www.justice.gov/enrd/consent-decrees. We will provide a paper copy of the consent decree without the exhibits upon written request and payment of reproduction costs. Please mail your request and payment to: Consent Decree Library, U.S. DOJ—ENRD, P.O. Box 7611, Washington, DC 20044-7611.

Please enclose a check or money order for $18.25 (25 cents per page reproduction cost) payable to the United States Treasury.

Jeffrey Sands,
Assistant Section Chief, Environmental Enforcement Section, Environment and Natural Resources Division.

[FR Doc. 2022-12404 Filed 6-8-22; 8:45 am]

BILLING CODE 4410-15-P